DEPARTMENT OF ENERGY

Western Area Power Administration

Notice of Floodplain Involvement for the Blythe Energy Project

AGENCY: Western Area Power Administration, DOE.

ACTION: Notice of Floodplain Involvement.

SUMMARY: Western Area Power Administration (Western) has been approached by Wisvest Corporation, a non-regulated subsidiary of Wisconsin Energy Corporation, to interconnect the power to be generated by the Blythe Energy Project (Project) to Western's transmission system. The Project, as proposed, is a 520-megawatt (MW) natural gas-fired thermal power plant that is intended to serve competitive regional markets in southern California and Arizona. The Project is intended as a “merchant plant,” which means that the Project would be independent of other generators and that the power generated would serve the open market rather than any particular utility or load.

The Project would occupy approximately 15 acres of a 76-acre parcel of private land located just east of the Blythe Airport. Water for cooling and steam generation would be obtained from groundwater wells at approximately 2,200 gallons per minute. The plant would be a “zero discharge” facility, meaning that there would be no wastewater discharge from the plant. Instead, wastewater would be handled by evaporation ponds on site. Natural gas would be fed to the plant by new pipelines that would tap existing major interstate gas pipelines in the vicinity. One option is to pipe gas from the Arizona side of the Colorado River through a new 11.5-mile pipeline. A review of the flood hazard maps for Riverside County, California, indicates that the plant site would reside outside the 100-year floodplain of the Colorado River and McCoy Wash, a nearby intermittent drainage. However, the proposed pipeline route would cross the Colorado River and the Palo Verde Valley just south of the City of Blythe. The crossing of the Colorado River would involve horizontal directional, or microbore drilling, which would place the pipeline under the River. This technique would be used for any crossings of irrigation canals and drains as the pipeline crosses the Valley.

In accordance with the U.S. Department of Energy (DOE) Floodplain/Wetland Review Requirements (10 CFR part 1022), Western will prepare a floodplain assessment and will perform the proposed actions in a manner so as to avoid or minimize potential harm to or within the affected floodplain. The floodplain assessment will be included in the Environmental Assessment/Staff Assessment being prepared jointly by Western and the California Energy Commission on the project, in accordance with the provisions of the DOE National Environmental Policy Act Implementing Procedures (10 CFR part 1021).

DATES: Comments on the proposed floodplain action are due to the address below no later than August 25, 2000.

ADDRESSES: Comments should be addressed to Mr. Nick Chevance, Environmental Project Manager, Western Area Power Administration, P.O. Box 281213, Lakewood, CO, 80228-8213, FAX: 720-962-2630, email chevance@wapa.gov; or Mr. John Holt, Environment Manager, Desert Southwest Customer Service Region, Western Area Power Administration, P.O. Box 6457, Phoenix, AZ 85005-6457, FAX: 602-352-2630, email holt@wapa.gov.

FOR FURTHER INFORMATION CONTACT: For Project information contact: Mr. Nick Chevance, telephone 720-962-7254, or Mr. John Holt, telephone 602-352-2592, at the addresses and faxes listed above. For further information on DOE Floodplain/Wetlands Environmental Review Requirement contact: Ms. Carol M. Borgstrom, Director, NEPA Policy and Compliance, EH-42, U.S. Department of Energy, 1000 Independence Avenue SW., Washington, DC 20585, telephone 202-586-4600 or 800-472-2756.

SUPPLEMENTARY INFORMATION: The proposed Blythe Energy Project would involve construction activities within the floodplain of the Colorado River, including the construction of the natural gas pipeline and the microbore drilling. The floodplain assessment would examine the impacts of this construction on the Colorado River floodplain. The Blythe Energy Project would involve the floodplain in both Riverside County, California, Townships 6 and 7 South, Ranges 22 and 23 East, and La Paz County, Arizona, Township 3 North, Range 22 West. Maps and further information are available from the contacts above.

Dated: July 19, 2000.
Michael S. Hacskaylo,
Administrator.

[FR Doc. 00-19091 Filed 7-27-00; 8:45 am]

BILLING CODE 6450-01-P